DEPARTMENT OF DEFENSE

Department of the Army

Performance Review Boards Membership

AGENCY: Department of the Army, DoD.

ACTION: Notice.

SUMMARY: Notice is given of the names of members of Performance Review Boards for the Department of the Army.

EFFECTIVE DATE: September 6, 2001.

FOR FURTHER INFORMATION CONTACT: David Stokes, U.S. Army Senior Executive Service Office, Assistant Secretary of the Army, Manpower & Reserve Affairs, 111 Army, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for the Office of the Secretary of the Army are:

1. Mr. Charles T. Horner, Principal Deputy Assistant Secretary of the Army, (Financial Management & Comptroller), Office, Assistant Secretary of the Army, (Financial Management & Comptroller).

2. Ms. Judith Guenther, Director of Investment, Office, Assistant Secretary of the Army, (Financial Management & Comptroller).

3. Mr. John Miller, Director for Business Resources, Office, Assistant Secretary of the Army, (Financial Management & Comptroller).

4. Mr. Francis E. Reardon, The Auditor General, Army Audit Agency.

5. Mr. Thomas Druzgal, Deputy Auditor General, Army Audit Agency.

6. Ms. Joyce Morrow, Director, Audit Policy, Plans & Resources, Army Audit Agency.

7. Mr. Frederick R. Budd, Director, Single Agency Manager—Pentagon.

8. Dr. Henry C. Dubin, Director for Assessment & Evaluation, Office, Assistant Secretary of the Army, (Acquisition, Logistics & Technology).

9. Dr. A. Michael Andrews, Deputy Assistant Secretary of the Army, (Research & Technology)/Chief Scientist, Office, Assistant Secretary of the Army, (Acquisition, Logistics & Technology).

10. Ms. Claudia L. Tornblom, Deputy Assistant Secretary of the Army, (Management and Budget), Office, Assistant Secretary of the Army, (Civil Works).

11. Dr. Daphne Kamely, Special Assistant to the Deputy Asst Sec of the Army, (Environment, Safety & Occupational Health), Office, Assistant Secretary of the Army, (Installations & Environment).

12. Mr. Karl F. Schneider, Deputy Assistant Secretary of the Army, (Army Review Boards Agency), Office, Assistant Secretary of the Army, (Manpower and Reserve Affairs).

13. Ms. Elizabeth Throckmorton, Assistant Deputy ASA (Civilian Personnel Policy), Office, Assistant Secretary of the Army, (Manpower and Reserve Affairs).

14. Mr. David Borland, Vice Director, Directorate of Information Systems for Command, Control, Communications & Computers.

15. MG Steven W. Boutelle, Director of Programs Architecture, Directorate of Information Systems for Command, Control, Communications & Computers.

16. Mr. John C. Speedy III, Assistant Deputy Under Secretary of the Army, (International Policy), Office, Deputy Under Secretary of the Army, (International Affairs).

17. MG Howard J. von Kaenel, Military Deputy to the Under Secretary of the Army, (International Affairs), Office, Deputy Under Secretary of the Army, (International Affairs).

18.Mr. J. Douglas Sizelove, Assistant Deputy Under Secretary of the Army, (Operations Research), Office, Deputy Under Secretary of the Army, (Operations Research).

19. Dr. Daniel Willard, Special Assistant for Air and Missile Defense, Office, Deputy Under Secretary of the Army, (Operations Research).

20. Mr. Earl H. Stockdale, Deputy General Counsel, (Civil Works & Environment), Office of the Army General Counsel.

21. Mr. Levator Norsworthy, Deputy General Counsel, (Acquisition), Office of the Army General Counsel.

22. MG Warren L. Freeman, Commanding General, District of Columbia National Guard.

The following members are added to the Performance Review Board for the U.S. Army Materiel Command:

1. Mr. Jimmy C. Morgan, Director, U.S. Army Armament and Chemical, Acquisition and Logistics Activity, U.S. Army Tank-automotive and Armaments Command.

2. Dr. Joseph A. Lannon, Director, Warheads, Energetics and Combat-Support.

3. Armaments Center, U.S. Army Tank-automotive and Armaments Command.

4. Mr. Michael P. Devine, Technical Director for Armaments.

5. U.S. Army Armament RD&E Center, U.S. Army Tank-automotive and Armaments Command.

Luz D. Oritz,
Army Federal Register Liaison Officer.

[FR Doc. 01-22440 Filed 9-6-01; 8:45 am]

BILLING CODE 3710-08-M